DEPARTMENT OF TRANSPORTATION

Federal Aviation Administration

Advisory Circular 33-7, Certification of 30-Second and 2-Minute One-Engine-Inoperative (OEI) Ratings for Rotorcraft Turbine Engines

AGENCY: Federal Aviation Administration (FAA), DOT.

ACTION: Notice of issuance of advisory circular.

SUMMARY: This notice announces the issuance of Advisory Circular (AC) 33-7, Certification of 30-Second and 2-Minute One-Engine-Inoperative (OEI) Ratings for Rotorcraft Turbine Engines. This AC sets forth acceptable methods of compliance with the requirements for 30-second OEI and 2-minute OEI rotorcraft turbine engine ratings in part 33 of Title 14 of the Code of Federal Regulations.

DATES: The Engine and Propeller Directorate issued AC 33-7 on September 6, 2006.

FOR FURTHER INFORMATION CONTACT: The Federal Aviation Administration, Attn: Chung Hsieh, Engine and Propeller Standards Staff, ANE-110, 12 New England Executive Park, Burlington, MA 01803-5299; telephone: (781) 238-7115; fax: (781) 238-7199; e-mail: chung.hsieh@faa.gov.

We have filed in the docket all substantive comments received, and a report summarizing them. If you wish to review the docket in person, you may go to the above address between 9 a.m. and 5 p.m., Monday through Friday, except Federal holidays. If you wish to contact the above individual directly, you can use the above telephone number or e-mail address provided.

How to obtain copies: A paper copy of AC 33-7 may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at http://www.faa.gov/regulations_policies (then click on “Advisory Circulars”).

(Authority: 49 U.S.C. 106(g), 40113, 44701-44702, 44704)

Issued in Burlington, Massachusetts on September 6, 2006.
Francis A. Favara,
Manager, Engine and Propeller Directorate, Aircraft Certification Service.

[FR Doc. 06-8309 Filed 9-26-06; 8:45 am]

BILLING CODE 4910-13-M